DEPARTMENT OF TRANSPORTATION

Federal Aviation Administration

14 CFR Part 39

[Docket No. 99-NM-265-AD; Amendment 39-11670; AD 2000-07-16]

RIN 2120-AA64

Airworthiness Directives; McDonnell Douglas Model MD-11 and MD-11F Series Airplanes

AGENCY: Federal Aviation Administration, DOT.

ACTION: Final rule.

SUMMARY: This amendment supersedes an existing airworthiness directive (AD), applicable to certain McDonnell Douglas Model MD-11 and MD-11F series airplanes, that currently requires modification of the external power feeder cable clamping installation. This amendment also requires a detailed visual inspection of the external power feeder cables to detect chafed or damaged wires; and repair, if necessary. This amendment is prompted by reports of damage to the external power feeder cables located under the forward cargo compartment floor, which was caused by excessive cable length and/or maintenance personnel stepping on the cables. The actions specified by this AD are intended to prevent arcing from occurring under the forward cargo compartment floor as a result of damaged external power feeder cables, a situation that could lead to a fire at this location.

DATES: Effective May 19, 2000.

The incorporation by reference of McDonnell Douglas Alert Service Bulletin MD11-24A078, Revision 01, dated June 16, 1999, as listed in the regulations, is approved by the Director of the Federal Register as of May 19, 2000.

The incorporation by reference of McDonnell Douglas Service Bulletin 24-78, dated May 10, 1994, as listed in the regulations, was approved previously by the Director of the Federal Register as of June 15, 1994 (59 FR 27972, May 31, 1994).

ADDRESSES: The service information referenced in this AD may be obtained from Boeing Commercial Aircraft Group, Long Beach Division, 3855 Lakewood Boulevard, Long Beach, California 90846, Attention: Technical Publications Business Administration, Dept. C1-L51 (2-60). This information may be examined at the Federal Aviation Administration (FAA), Transport Airplane Directorate, Rules Docket, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

FOR FURTHER INFORMATION CONTACT: Brett Portwood, Aerospace Engineer, Systems and Equipment Branch, ANM-130L, FAA, Transport Airplane Directorate, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) by superseding AD 94-11-06, amendment 39-8922 (59 FR 27972, May 31, 1994), which is applicable to certain McDonnell Douglas Model MD-11 and MD-11F series airplanes, was published in the Federal Register on February 1, 2000 (65 FR 4784). The action proposed to continue to require modification of the external power feeder cable clamping installation. The action also proposed to require a detailed visual inspection of the external power feeder cables to detect chafed or damaged wires; and repair, if necessary.

Comments

Interested persons have been afforded an opportunity to participate in the making of this amendment. Due consideration has been given to the single comment received.

The commenter supports the proposed rule.

Conclusion

After careful review of the available data, including the comment noted above, the FAA has determined that air safety and the public interest require the adoption of the rule as proposed.

Cost Impact

There are approximately 110 airplanes of the affected design in the worldwide fleet. The FAA estimates that 46 airplanes of U.S. registry will be affected by this AD.

The modification of the external power feeder cable clamping installation that is currently required by AD 94-11-06, and retained in this AD, takes approximately 3 work hours per airplane to accomplish, at an average labor rate of $60 per work hour. Required parts cost approximately $395 per airplane. Based on these figures, the cost impact of the currently required actions on U.S. operators is estimated to be $26,450, or $575 per airplane.

The new actions that are required in this AD action will take approximately 1 work hour per airplane to accomplish, at an average labor rate of $60 per work hour. Based on these figures, the cost impact of the new requirements of this AD on U.S. operators is estimated to be $2,760, or $60 per airplane.

The cost impact figures discussed above are based on assumptions that no operator has yet accomplished any of the current or new requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-8922 (59 FR 27972, May 31, 1994), and by adding a new airworthiness directive (AD), amendment 39-11670, to read as follows:

2000-07-16 McDonnell Douglas: Amendment 39-11670. Docket 99-NM-265-AD. Supersedes AD 94-11-06, Amendment 39-8922.

Applicability: Model MD-11 and MD-11F series airplanes, as listed in McDonnell Douglas Service Bulletin 24-78, dated May 10, 1994; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent arcing from occurring under the forward cargo compartment floor as a result of damaged external power feeder cables, a situation that could lead to a fire at this location, accomplish the following:

Restatement of Requirements of AD 94-11-06, Amendment 39-8922 Modification

(a) Within 90 days after June 15, 1994 (the effective date of AD 94-11-06, amendment 39-8922), modify the external power feeder cable clamping installation in accordance with McDonnell Douglas Service Bulletin 24-78, dated May 10, 1994, or McDonnell Douglas Alert Service Bulletin MD11-24A078, Revision 01, dated June 16, 1999.

New Requirements of this AD

Inspection

(b) Within 1 year after the effective date of this AD, perform a detailed visual inspection of the external power cables between stations Y=635.000 and Y=655.000 to detect chafed or damaged wires, in accordance with McDonnell Douglas Alert Service Bulletin MD11-24A078, Revision 01, dated June 16, 1999. If any chafed or damaged wire is found, prior to further flight, repair in accordance with the service bulletin.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Alternative Methods of Compliance

(c) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with McDonnell Douglas Service Bulletin 24-78, dated May 10, 1994, and McDonnell Douglas Alert Service Bulletin MD11-24A078, Revision 01, dated June 16, 1999.

(1) The incorporation by reference of McDonnell Douglas Alert Service Bulletin MD11-24A078, Revision 01, dated June 16, 1999 is approved by the Director of the Federal Register in accordance with 5 U.S.C. 552(a) and 1 CFR part 51.

(2) The incorporation by reference of McDonnell Douglas Service Bulletin 24-78, dated May 10, 1994 was approved previously by the Director of the Federal Register as of June 15, 1994 (59 FR 27972, May 31, 1994).

(3) Copies may be obtained from Boeing Commercial Aircraft Group, Long Beach Division, 3855 Lakewood Boulevard, Long Beach, California 90846, Attention: Technical Publications Business Administration, Dept. C1-L51 (2-60). Copies may be inspected at the FAA, Transport Airplane Directorate, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

(f) This amendment becomes effective on May 19, 2000.

Issued in Renton, Washington, on April 4, 2000.
Donald L. Riggin,
Acting Manager, Transport Airplane Directorate, Aircraft Certification Service.

[FR Doc. 00-8812 Filed 4-13-00; 8:45 am]

BILLING CODE 4910-13-P